DEPARTMENT OF ENERGY

Federal Energy Regulatory Commission

Combined Notice of Filings #1

Take notice that the Commission received the following electric rate filings:

Docket Numbers: ER21-83-003.

Applicants: Potomac Electric Power Company, PJM Interconnection, L.L.C.

Description: Compliance filing: Potomac Electric Power Company submits tariff filing per 35: Potomac Electric Power Co. submits Compliance Filing in ER21-83 to be effective 1/1/2021.

Filed Date: 9/15/22.

Accession Number: 20220915-5170.

Comment Date: 5 p.m. ET 10/6/22.

Docket Numbers: ER22-2393-001.

Applicants: Northern Indiana Public Service Company LLC.

Description: Tariff Amendment: TDSIC WVPA CIAC Agreement to be effective 7/29/2022.

Filed Date: 9/15/22.

Accession Number: 20220915-5105.

Comment Date: 5 p.m. ET 10/6/22.

Docket Numbers: ER22-2856-000.

Applicants: Southwest Power Pool, Inc.

Description: § 205(d) Rate Filing: 3215R13 People's Electric Cooperative NITSA NOAs to be effective 10/1/2022.

Filed Date: 9/15/22.

Accession Number: 20220915-5024.

Comment Date: 5 p.m. ET 10/6/22.

Docket Numbers: ER22-2857-000.

Applicants: Tampa Electric Company.

Description: § 205(d) Rate Filing: Amendment to Rate Schedule No. 6 with DEF to be effective 11/22/2022.

Filed Date: 9/15/22.

Accession Number: 20220915-5068.

Comment Date: 5 p.m. ET 10/6/22.

Docket Numbers: ER22-2858-000.

Applicants: Ball Hill Wind Energy, LLC.

Description: Baseline eTariff Filing: Application for Market-Based Rate, Waivers and Authority to be effective 10/14/2022.

Filed Date: 9/15/22.

Accession Number: 20220915-5109.

Comment Date: 5 p.m. ET 10/6/22.

Docket Numbers: ER22-2859-000.

Applicants: Bluestone Wind, LLC.

Description: Baseline eTariff Filing: Application for Market-Based Rate, Waivers and Authority to be effective 11/18/2022.

Filed Date: 9/15/22.

Accession Number: 20220915-5112.

Comment Date: 5 p.m. ET 10/6/22.

Docket Numbers: ER22-2860-000.

Applicants: Central Hudson Gas & Electric Corporation.

Description: Compliance filing: Certificate of Concurrence Filing to be effective 8/22/2022.

Filed Date: 9/15/22.

Accession Number: 20220915-5153.

Comment Date: 5 p.m. ET 10/6/22.

Docket Numbers: ER22-2861-000.

Applicants: PJM Interconnection, L.L.C.

Description: § 205(d) Rate Filing: Amendment to ISA No. 3752; Queue No. None (consent_amend) to be effective 12/31/2013.

Filed Date: 9/15/22.

Accession Number: 20220915-5160.

Comment Date: 5 p.m. ET 10/6/22.

Docket Numbers: ER22-2862-000.

Applicants: PJM Interconnection, L.L.C.

Description: § 205(d) Rate Filing: Amendment to ISA No. 2987, Queue No. P59 (consent_amend) to be effective 4/4/2018.

Filed Date: 9/15/22.

Accession Number: 20220915-5199.

Comment Date: 5 p.m. ET 10/6/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5 p.m. eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 15, 2022.
Debbie-Anne A. Reese,
Deputy Secretary.

[FR Doc. 2022-20399 Filed 9-20-22; 8:45 am]

BILLING CODE 6717-01-P